OFFICE OF THE UNITED STATES TRADE REPRESENTATIVE

15 CFR Part 2017

[Docket Number USTR-2016-0002]

RIN 0350-AA07

Establishment of a Petition Process To Review the Eligibility of Countries Under the African Growth and Opportunity Act

AGENCY: Office of the United States Trade Representative.

ACTION: Final rule.

SUMMARY: The Office of the United States Trade Representative (USTR) published an interim final rule establishing a petition process to review the eligibility of countries for the benefits of the African Growth and Opportunity Act (AGOA) on March 18, 2016. USTR publishes this final rule to adopt and implement the interim final rule without change.

DATES: The final rule is effective on April 29, 2016.

FOR FURTHER INFORMATION CONTACT: For procedural questions, please contact Yvonne Jamison, Trade Policy Staff Committee, at 202-395-3475. Direct all other questions to Constance Hamilton, Deputy Assistant U.S. Trade Representative for African Affairs, at Constance_Hamilton@ustr.eop.gov or 202-395-9514.

SUPPLEMENTARY INFORMATION: On March 18, 2016 (81 FR 14716), USTR published an interim final rule, which added 15 CFR part 2017. The new Part 2017 establishes a petition process that supplements the annual (normal cycle) request for public comments on whether a beneficiary sub-Saharan African country is meeting the eligibility criteria and requirements of the AGOA program (see, e.g., 80 FR 48951, Aug. 14, 2015). The interim final rule was effective upon publication and the public comment period closed on April 18, 2016. USTR did not receive any comments.

Accordingly, the interim rule published March 18, 2016 (81 FR 14716), is adopted as final without change.

Florizelle Liser,
Assistant U.S. Trade Representative for African Affairs.

[FR Doc. 2016-10016 Filed 4-28-16; 8:45 am]

BILLING CODE 3290-F6-P